CORPORATION FOR NATIONAL AND COMMUNITY SERVICE

Proposed Information Collection; Submission for OMB Review; Comment Request

AGENCY: Corporation for National and Community Service.

ACTION: Notice.

SUMMARY: The Corporation for National and Community Service (hereinafter the “Corporation”), has submitted the following public information collection request (ICR) entitled Spirit of Service Awards Nomination Guidelines and Application—Corporate to the Office of Management and Budget (OMB) for review and approval in accordance with the Paperwork Reduction Act of 1995 (PRA95) (44 U.S.C. section 3506(c)(2)(A)). A copy of the IRC, with applicable supporting documentation, may be obtained by calling the Corporation for National and Community Service, Mr. David Premo at (202) 606-6717. Individuals who use a telecommunications device for the deaf (TTY-TDD) may call (202) 606-3472 between 8:30 a.m. and 5 p.m. eastern time, Monday through Friday.

DATES: Written comments must be submitted to the individual and office listed in the ADDRESSES section by December 12, 2005.

ADDRESSES: Comments may be submitted, identified by the title of the information collection activity, to the Office of Information and Regulatory Affairs, Attn: Ms. Katherine Astrich, OMB Desk Officer for the Corporation for National and Community Service, by any of the following two methods within 30 days from this date of publication in the Federal Register:

(1) By fax to: (202) 395-6974, Atttention: Ms. Katherine Astrich, OMB Desk Officer for the Corporation for National and Community Service.

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of collection of information on those who are to respond, including through the use of appropriate automated, electronic, mechanical, or other technological collection techniques or other forms of information technology, e.g., permitting electronic submissions of responses.

Comments

A 60-day public comment Notice was published in the Federal Register on September 1, 2005. This comment period ended October 31, 2005. No public comments were received from this notice.

Description: Beginning in 2006, the Corporation plans to establish specific nomination guidelines for Corporations and develop a formal nomination process, which involves voluntary information collection from non-government individuals. Since 2004 the Spirit of Service Awards has enabled the Corporation to recognize exceptional organizations and program participants from each of the Corporation's three programs, Senior Corps, AmeriCorps, and Learn and Serve America.

Prior to 2003, AmeriCorps recognized its outstanding members annually through the All-AmeriCorps Awards, which were initiated in 1999 and presented by President Clinton as part of the 5th anniversary celebration of the program. Senior Corps had recognized its outstanding projects and volunteers at its own national conference, and Learn and Serve America recognized exemplary programs and participants through its Leaders School selection and the President's Student Service Awards.

Type of Review: New.

Agency: Corporation for National and Community Service.

Title: Spirit of Service Awards Nomination Guidelines and Application—Corporate.

OMB Number: None.

Agency Number: None.

Affected Public: People, companies, or organizations that have a relationship with a program funded by the Corporation for National and Community Service (Senior Corps, AmeriCorps, or Learn and Serve America).

Total Respondents: 200.

Frequency: Annually.

Average Time Per Response: 3 hours.

Estimated Total Burden Hours: 600 hours.

Total Burden Cost (capital/startup): None.

Total Burden Cost (operating/maintenance): None.

Dated: November 4, 2005.
Sandy Scott,
Acting Director, Office of Public Affairs.

[FR Doc. 05-22385 Filed 11-9-05; 8:45 am]

BILLING CODE 6050-$$-P